NATIONAL ARCHIVES AND RECORDS ADMINISTRATION

[NARA-2022-014]

State, Local, Tribal, and Private Sector Policy Advisory Committee (SLTPS-PAC); Meeting

AGENCY: Information Security Oversight Office (ISOO), National Archives and Records Administration (NARA).

ACTION: Notice of Federal advisory committee meeting.

SUMMARY: We are announcing an upcoming meeting of the State, Local, Tribal, and Private Sector Policy Advisory Committee (SLTPS-PAC) in accordance with the Federal Advisory Committee Act and implementing regulations.

DATES: The meeting will be on January 4, 2023, from 10 a.m. to 12 p.m. (EST).

ADDRESSES: This meeting will be a hybrid meeting of in-person and virtual meeting. We will send instructions on how to access the meeting to those who register according to the instructions below.

FOR FURTHER INFORMATION CONTACT: Heather Harris Pagan, ISOO Senior Program Analyst, at SLTPS_PAC@nara.gov or (202) 357-5351. Contact ISOO at ISOO@nara.gov.

SUPPLEMENTARY INFORMATION: This meeting is open to the public in accordance with the Federal Advisory Committee Act (5 U.S.C. app 2) and implementing regulations at 41 CFR 102-3. The Committee will discuss matters relating to the classified national security information program for State, local, Tribal, and private sector entities.

Procedures: Please submit the name, email address, and telephone number of people planning to attend to Heather Harris Pagán at SLTPS_PAC@nara.gov (contact information above) no later than January 2, 2023. We will provide meeting access information to those who register.

Tasha Ford,
Committee Management Officer.

[FR Doc. 2022-27618 Filed 12-19-22; 8:45 am]

BILLING CODE 7515-01-P